AGENCY FOR INTERNATIONAL DEVELOPMENT

Bureau for Democracy, Conflict and Humanitarian Assistance, Office of Private Voluntary Cooperation/American Schools and Hospitals Abroad; Announcement of Draft Changes to Criterion #8 American Schools and Hospitals Abroad Program

The U.S. Agency for International Development is announcing draft changes to Criterion #8 in the American Schools and Hospitals Abroad program, pursuant to section 214 of the Foreign Assistance Act of 1961, as amended. The program criteria serve as administrative guidance for considering the acceptability and relative merits of applicants.

FOR FURTHER INFORMATION CONTACT: Mr. George Like (703) 712-1766, ASHA Agency for International Development, Washington, DC 20523.

SUPPLEMENTARY INFORMATION: On November 26, 1979, the U.S. Agency for International Development published 11 Program Criteria for the American Schools and Hospitals Abroad program. Criterion #8 states “The institution must be open to all persons regardless of race, religion, sex, color or national origin. (The above shall not be construed to require enrollment of students of both sexes at an educational institution enrolling males or females only.) Assistance may not be used to train persons for religious pursuits or to construct buildings or other facilities intended for worship or religious instruction.”

On December 12, 2002, Executive Order 13279 “Equal Protection of the Laws for Faith-Based and Community Organizations” was signed. Accordingly, the U.S. Agency for International Development proposes to change Criterion #8 of the American Schools and Hospitals Abroad program to “The institution must be open to all persons regardless of race, religion, sex, color or national origin. (The above shall not be construed to require enrollment of students of both sexes at an educational institution enrolling males or females only.) Assistance may not be used to support any inherently religious activities, such as worship, religious instruction or proselytization.”

The sixty-day comment period will begin on the date that this announcement is published in the Federal Register.

G. Garrett Grigsby,
Deputy Assistant Administrator, Bureau for Democracy, Conflict and Humanitarian Assistance.

[FR Doc. 04-23552 Filed 10-20-04; 8:45 am]

BILLING CODE 6116-01-P